SMALL BUSINESS ADMINISTRATION

13 CFR Part 124

8(a) Business Development Program Regulation Changes; Tribal Consultation

AGENCY: U.S. Small Business Administration.

ACTION: Notice of tribal consultation meeting.

SUMMARY: The U.S. Small Business Administration (SBA) announces that it is holding a tribal consultation meeting in Fairbanks, Alaska on the topic of the 8(a) Business Development (BD) program regulations. Testimony presented at this tribal consultation meeting will become part of the administrative record for SBA's consideration when the Agency deliberates on approaches to changes in the regulations pertaining to the 8(a) BD program.

DATES: The Tribal Consultation meeting date is October 24, 2007, 9 a.m. to 4 p.m. (ATZ), Fairbanks, Alaska. The Tribal Consultation meeting pre-registration deadline date is October 17, 2007.

ADDRESSES:

1. The Tribal Consultation meeting address is Pioneer Park, the Alaska Centennial Center for the Arts, 2300 Airport Road, Fairbanks, AK 99701.

2. Send pre-registration requests to attend and/or testify to Ms. Delcine Montgomery of SBA's Office of Native American Affairs, U.S. Small Business Administration, 409 Third Street, Washington, DC 20416; or Delcine.Montgomery@SBA.gov; or Facsimile to 202/481-1597.

3. Send all written comments to Mr. Joseph Loddo, Associate Administrator for Business Development, U.S. Small Business Administration, 409 3rd Street, SW., Washington, DC 20416; Joseph.Loddo@SBA.gov; or Facsimile to 202/481-2740.

FOR FURTHER INFORMATION CONTACT: Delcine Montgomery, Business Development Specialist for SBA's Office of Native American Affairs, at Delcine.Montgomery@SBA.gov or 202/205-6195 or by facsimile 202/481-1597.

SUPPLEMENTARY INFORMATION:

Background

SBA is in the process of reassessing its rules relating to the 8(a) BD program, particularly those directly affecting tribally-owned and ANC-owned 8(a) firms. 13 CFR 124.506, 124.513, and 124.519. Part of SBA's analysis pertains to a recent report issued by the Government Accountability Office (GAO) titled “Increased Use of Alaska Native Corporations’ Special 8(a) Provisions Calls for Tailored Oversight” (GAO-06-399). This GAO report concluded that SBA needs to tailor its regulations and policies to provide greater oversight over its ANCs' 8(a) procurements. GAO determined that without sufficient oversight, there is the potential for unintended consequences or abuse.

In response, SBA is considering regulatory changes to the 8(a) BD program to address the issues and concerns raised in the report, particularly those relating to ANC and tribal participation in the 8(a) BD mentor/protégé program. It is SBA's intent that any changes contemplated and instituted will incorporate the business development intent and mission of the 8(a) BD program as established by the Small Business Act. This notice provides information for the purpose, format, scheduling, and registration for the tribal consultation meeting.

Tribal Consultation Meeting

The purpose of this tribal consultation meeting is to conform to the requirements of Executive Order 13175, Tribal Consultations; to provide interested parties with an opportunity to discuss their views on the issues; and for SBA to obtain the views of these SBA's stakeholders on approaches to the 8(a) BD program regulations. SBA considers tribal consultation meetings a valuable component of its deliberations and believes that this tribal consultation meeting will allow for constructive dialogue with the tribal community, Tribal Leaders, Elders and elected members of Alaska Native Villages or their appointed representatives.

The format will consist of a panel of SBA representatives who will represent the Agency and moderate the discussions. Oral and written testimony will become part of the record for SBA's consideration. Written testimony may be submitted in lieu of oral testimony. SBA will analyze the testimony, both oral and written, along with any written comments received. SBA officials may ask questions of a presenter to clarify or further explain the testimony. The purpose of the tribal consultation meeting is to assist SBA with gathering information to potentially develop new proposals. SBA respectfully requests that the testimony focus on the issues as discussed in the GAO report, general issues as they pertain to the 8(a) BD program regulations and the mentor protégé program, or the unique concerns of the tribal communities. SBA respectfully requests that presenters do not raise issues pertaining to other SBA small business programs. Presenters may provide a written copy of their testimony. SBA will accept written material that the presenter wishes to provide that further supplements his or her testimony. Electronic or digitized copies are encouraged.

The tribal consultation meeting will be held for one day. The meeting will begin at 9 a.m. and end at 4 p.m. (ATZ), with a break from 12 p.m. to 1 p.m. SBA will adjourn early if all those scheduled have delivered their testimony.

Venue Information
Location | Address | Date | Registration closing date
Fairbanks, Alaska | Pioneer Park, The Alaska Centennial Center for the Arts, 2300 Airport Road Fairbanks, AK 99701 | October 24, 2007 | October 17, 2007.

Registration

SBA respectfully requests that any elected or appointed representative of the tribal communities that are interested in attending please pre-register in advance and indicate whether you would like to testify at the hearing. Registration requests should be received by SBA at least 5 business days prior to the tribal consultation meeting date. Please contact Ms. Delcine Montgomery of SBA's Office of Native American Affairs in writing at Delcine.Montgomery@SBA.gov or by facsimile to 202/481-1597. If you are interested in testifying please include the following information relating to the person testifying: Name, Organization affiliation, Address, Telephone number, E-mail address and Fax number. SBA will attempt to accommodate all interested parties that wish to present testimony. Based on the number of registrants it may be necessary to impose time limits to ensure that everyone who wishes to testify has the opportunity to do so. SBA will confirm in writing the registration of presenters and attendees.

Authority: 15 U.S.C. 634.

Stephen D. Kong,
Deputy General Counsel.

[FR Doc. E7-19962 Filed 10-10-07; 8:45 am]

BILLING CODE 8025-01-P